DEPARTMENT OF COMMERCE

International Trade Administration

[C-533-825]

Continuation of Countervailing Duty Order on Polyethylene Terephthalate Film, Sheet, and Strip from India

AGENCY: Import Administration, International Trade Administration, Department of Commerce.

SUMMARY: As a result of the determinations by the Department of Commerce (the Department) and the International Trade Commission (ITC) that revocation of the countervailing duty order on Polyethylene Terephthalate (PET) Film, Sheet, and Strip from India would be likely to lead to continuation or recurrence of countervailable subsidies and material injury to an industry in the United States, the Department is publishing a notice of continuation for this countervailing duty order.

EFFECTIVE DATE: May 8, 2008.

CONTACT INFORMATION: Elfi Blum or Dana Mermelstein, AD/CVD Operations, Office 6, Import Administration, International Trade Administration, U.S. Department of Commerce, 14th Street and Constitution Avenue, NW, Washington, DC 20230; telephone: (202) 482-0197 or (202) 482-1391, respectively.

SUPPLEMENTARY INFORMATION:

Background

The Department initiated and the ITC instituted a sunset review of the countervailing duty order on PET Film, Sheet, and Strip from India, pursuant to section 751(c) of the Tariff Act of 1930, as amended (the Act). See Initiation of Five-year (“Sunset”) Reviews, 72 FR 30544 (June 1,2007) (Initiation).

As a result of its review, the Department found that revocation of the countervailing duty order would likely lead to a continuation or recurrence of countervailable subsidies, and therefore notified the ITC of the magnitude of the rates likely to prevail were the order to be revoked. See Polyethylene Terephthalate Film, Sheet, and Strip from India, 72 FR 57300 (October 9, 2007) (Final Sunset Review PET Film from India).

On April 10, 2008, the ITC determined, pursuant to section 751(c) of the Act, that revocation of the countervailing duty order on PET Film, Sheet, and Strip from India would likely lead to a continuation or recurrence of material injury to an industry in the United States within a reasonably foreseeable time. See Polyethylene Terephthalate (PET) Film, Sheet, and Strip from India and Taiwan (Inv. Nos. 701-TA-415 and 731-TA-933-934, USITC Publication 3994 (Review)(April 2008)).

Scope of the Order

The products covered by this order are all gauges of raw, pretreated or primed PET film, whether extruded or coextruded. Excluded are metallized films and other finished films that have had at least one of their surfaces modified by the application of a performance-enhancing resinous or inorganic layer of more than 0.00001 inches thick. Imports of PET film are currently classifiable in the Harmonized Tariff Schedule of the United States (“HTSUS”) under item number 3920.62.90. Although the HTSUS subheadings are provided for the convenience and customs purposes, the written description of the scope of these orders is dispositive. Since this order was published, there has been one scope determination for PET film from India, dated August 25, 2003. In this determination, requested by International Packaging Films Inc., the Department determined that tracing and drafting film is outside of the scope of the order on PET film from India. See Notice of Scope Rulings, 70 FR 24533 (May 10, 2005).

Continuation of Order

As a result of these determinations by the Department and the ITC that revocation of the countervailing duty order would be likely to lead to continuation or recurrence of countervailable subsidies and material injury to an industry in the United States, pursuant to section 751(d)(2) of the Act, the Department hereby orders the continuation of the countervailing duty order on PET Film from India. U.S. Customs and Border Protection will continue to collect cash deposits at the rate in effect at the time of entry for all imports of subject merchandise.

The effective date of continuation of this order is the date of publication in the Federal Register of this notice of continuation. Pursuant to section 751(c)(2) of the Act, the Department intends to initiate the next five-year review of this order not later than 30 days prior to the fifth anniversary of the effective date of continuation.

This five-year (sunset) review and this notice are in accordance with section 751(c) of the Act and published pursuant to section 777(i)(1) of the Act.

Dated: May 2, 2008.
David M. Spooner,
Assistant Secretary for Import Administration.

[FR Doc. E8-10273 Filed 5-7-08; 8:45 am]

BILLING CODE 3510-DS-S